DEPARTMENT OF ENERGY

DOE/Biological and Environmental Research Advisory Committee

AGENCY: Office of Science, Department of Energy.

ACTION: Notice of open virtual meeting.

SUMMARY: This notice announces a meeting of the DOE Biological and Environmental Research Advisory Committee (BERAC). The Federal Advisory Committee Act requires that public notice of these meetings be announced in the Federal Register.

DATES: Thursday, October 13, 2022; 11 a.m.-5:30 p.m. EDT, Friday, October 14, 2022; 11 a.m.-5:30 p.m. EDT.

ADDRESSES: This meeting will be held digitally via webcast using Zoom. Instructions for Zoom, as well as any updates to meeting times or meeting agenda, can be found on the BERAC meeting website at: https://science.osti.gov/ber/berac/Meetings.

FOR FURTHER INFORMATION CONTACT: Dr. Tristram West, Designated Federal Officer, U.S. Department of Energy, Office of Science, Office of Biological and Environmental Research, SC-33/Germantown Building, 1000 Independence Avenue SW, Washington, DC 20585-1290. Telephone: 301-903-5155; fax (301) 903-5051 or email: tristram.west@science.doe.gov.

SUPPLEMENTARY INFORMATION:

Purpose of the Committee: To provide advice on a continuing basis to the Director, Office of Science of the Department of Energy, on the many complex scientific and technical issues that arise in the development and implementation of the Biological and Environmental Research Program.

Tentative Agenda:

• News from the Office of Biological and Environmental Research

• News from the Biological Systems Science and Earth and Environmental Systems Sciences Divisions

• Conclusions from the BERAC Subcommittee on International Benchmarking

• Response to the BERAC Committee of Visitors on BSSD funding processes

• Briefings from recent Workshops

• BERAC business and discussion

• Public comment

Public Participation: The two-day meeting is open to the public. If you would like to file a written statement with the Committee, you may do so either before or after the meeting. If you would like to make oral statements regarding any of the items on the agenda, please send an email request to both Tristram West at tristram.west@science.doe.gov and Andrew Flatness at andrew.flatness@science.doe.gov. You must make your request for an oral statement at least five business days before the meeting. Reasonable provision will be made to include the scheduled oral statements on the agenda. The Chairperson of the Committee will conduct the meeting to facilitate the orderly conduct of business. Public comment will be limited to five minutes each.

Minutes: The minutes of this meeting will be available for public review and copying within 45 days at the BERAC website: https://science.osti.gov/ber/berac/Meetings/BERAC-Minutes.

Signing Authority

This document of the Department of Energy was signed on September 15, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 15, 2022.
Treena V. Garrett,
Federal Register Liaison Officer, U.S. Department of Energy.

[FR Doc. 2022-20344 Filed 9-20-22; 8:45 am]

BILLING CODE 6450-01-P